TENNESSEE VALLEY AUTHORITY

Sunshine Act Meetings

TIME AND DATE: 10 a.m. on May 7, 2020.

PLACE: Please use the following link for the live stream of the meeting: http://tva.me/KVwB50znCn1.

STATUS: Open, via live streaming only.

MATTERS TO BE CONSIDERED:

Meeting No. 20-02

The TVA Board of Directors will hold a public meeting on May 7, 2020. Due to the COVID-19 outbreak, the meeting will be conducted via teleconference. The meeting will be called to order at 10 a.m. ET to consider the agenda items listed below. TVA management will answer questions from the news media following the Board meeting.

Public health concerns also require a change to the Board's public listening session. Although in-person comments from the public are not feasible, the Board is encouraging those wishing to express their opinions to submit written comments that will be provided to the Board members before the May 7 meeting. Written comments can be submitted through the same online system used to register to speak at previous listening sessions.

Agenda

1. Approval of Minutes of the February 13, 2020, Board Meeting

2. Report from President and CEO

3. Report of the External Relations Committee

A. TVA Environmental Policy

B. Natural Resources Plan

4. Report of the Finance, Rates, and Portfolio Committee

A. Commercial Energy Agreements, Programs, and Related Contracts

5. Report of the Nuclear Oversight Committee

6. Report of the Audit, Risk, and Regulation Committee

7. Report of the People and Performance Committee

8. Governance Items

A. Amendments to TVA Board Practices

9. Information Items

A. Delegation to approve temporary payment and regulatory flexibility relief for local power companies

B. Delegation to provide some relief to certain large commercial and industrial customers affected by the COVID-19 pandemic to support return to operations

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: April 30, 2020.
Sherry A. Quirk,
General Counsel.

[FR Doc. 2020-09658 Filed 5-1-20; 4:15 pm]

BILLING CODE 8120-08-P